DEPARTMENT OF HOUSING AND URBAN DEVELOPMENT

24 CFR Parts 20, 570, 954, and 1003

[Docket No. FR-4747-C-01]

Technical Corrections to Certain HUD Regulations

AGENCY: Office of the Secretary, HUD.

ACTION: Final rule; technical corrections.

SUMMARY: This final rule amends several Department regulations to remove obsolete or incorrect references and to advise of a new office location.

DATES: Effective Date: April 29, 2002.

FOR FURTHER INFORMATION CONTACT: Aaron Santa Anna, Office of the General Counsel, Room 10276, Department of Housing and Urban Development, 451 Seventh Street, SW., Washington, DC 20410. Telephone (202) 708-3055 (this is not a toll-free number). Hearing or speech-impaired persons may access this number by calling the Federal Information Relay Service at 1-800-877-8339 (this is a toll-free number).

SUPPLEMENTARY INFORMATION: This final rule makes technical corrections to several regulations, to remove obsolete references or incorrect citations. This rule also informs interested parties of a new mailing address for the HUD Board of Contract Appeals.

In 24 CFR part 20, § 20.3 is revised to show the new address, telephone number, and FAX number of the HUD Board of Contract Appeals (HUDBCA). The HUDBCA is now located at 1707 H Street, NW., Eleventh Floor, Washington, DC 20006. The new telephone and FAX numbers are (202) 254-0000 and (202) 254-0011, respectively.

This rule also amends the regulations at 24 CFR 570.489(l), 954.4(i), and 1003.608 to remove the reference to “appendix B to part 24.” As discussed earlier in this section, there is no appendix B to part 24.

Findings and Certifications

Environmental Review

This final rule removes obsolete and incorrect references and provides information on a new office location and website. The rule does not direct, provide for assistance or loan and mortgage insurance for, or otherwise govern or regulate, real property acquisition, disposition, leasing, rehabilitation, alteration, demolition, or new construction, or establish, revise, or provide for standards for construction or construction materials, manufactured housing, or occupancy. Therefore, in accordance with 24 CFR 50.19(c)(1), this final rule is categorically excluded from the requirements of the National Environmental Policy Act (42 U.S.C. 4321 et seq.).

Unfunded Mandates Reform Act

The Unfunded Mandates Reform Act of 1995 (2 U.S.C. 1531-1538) establishes requirements for Federal agencies to assess the effects of their regulatory actions on State, local, and tribal governments and the private sector. This rule does not impose a Federal mandate that will result in expenditure by State, local, or tribal governments, within the meaning of the Unfunded Mandates Reform Act of 1995.

Regulatory Flexibility Act

The Secretary, in accordance with the Regulatory Flexibility Act (5 U.S.C. 605(b)), has reviewed this rule before publication and by approving it certifies that this rule does not have a significant economic impact on a substantial number of small entities. There are no anti-competitive discriminatory aspects of the rule with regard to small entities and there are not any unusual procedures that would need to be complied with by small entities.

Executive Order 13132, Federalism

Executive Order 13132 (entitled “Federalism”) prohibits an agency from publishing any rule that has federalism implications if the rule either (1) imposes substantial direct compliance costs on State and local governments and is not required by statute, or (2) the rule preempts State law, unless the agency meets the consultation and funding requirements of section 6 of the Executive Order. This rule does not have federalism implications and does not impose substantial direct compliance costs on State and local governments or preempt State law within the meaning of the Executive Order.

List of Subjects

24 CFR Part 20

Administrative practice and procedure, Government contracts, Organization and functions (Government agencies).

24 CFR Part 570

Administrative practice and procedure, American Samoa, Community development block grants, Grant programs—education, Grant programs—housing and community development, Guam, Indians, Loan programs—housing and community development, Low and moderate income housing, Northern Mariana Islands, Pacific Islands Trust Territory, Puerto Rico, Reporting and recordkeeping requirements, Student aid, Virgin Islands.

24 CFR Part 954

Administrative practice and procedure, Grant programs-housing and community development, Grant programs-Indians, Indians, Low and moderate income housing, Manufactured homes, Rent subsidies, Reporting and recordkeeping requirements.

24 CFR Part 1003

Alaska, Community development block grants, Grant programs-housing and community development, Grant programs-Indians, Indians, Reporting and recordkeeping requirements.

Accordingly, for the reasons described in the preamble, HUD amends 24 CFR parts 20, 570, 954, and 1003 as follows:

PART 20—BOARD OF CONTRACT APPEALS

1. The authority citation for 24 CFR part 20 continues to read as follows:

Authority: 41 U.S.C. 601-613; 42 U.S.C. 3535(d).

2. Section 20. 3 is amended by revising paragraph (a) to read as follows:

§ 20.3 Organization and location of the Board.

(a) Location. The Board is located at 1707 H Street, NW., Eleventh Floor, Washington, DC 20006. Mail and non-postal delivery may be sent to the Board at this address. Mail also may be addressed to: Board of Contract Appeals, U.S. Department of Housing and Urban Development, Room 2131, 451 Seventh Street, SW., Washington, DC 20410-0001. The telephone number of the Board is (202) 254-0000. (This is not a toll-free number.) For learning or speech-impaired persons, this number may be accessed via TTY by contacting the Federal Information Relay Service at 1-800-877-8339. The facsimile number is (202) 254-0011.

* * * * *

PART 570—COMMUNITY DEVELOPMENT BLOCK GRANTS

3. The authority citation for 24 CFR part 570 continues to read as follows:

Authority: 42 U.S.C. 3535(d) and 5301-5320.

4. Section 570.489 is amended by revising paragraph (l) to read as follows:

§ 570.489 Program administrative requirements.

* * * * *

(l) Debarment and suspension. As required by 24 CFR part 24, each CDBG participant shall require participants in lower tier covered transactions to include a certification that neither it nor its principals are currently debarred, suspended, proposed for debarment, declared ineligible, or voluntarily excluded from participation in the covered transaction, in any proposal submitted in connection with the lower tier covered transactions. A participant may rely on the certification, unless it knows the certification is erroneous.

* * * * *

PART 954—INDIAN HOME PROGRAM

5. The authority citation for 24 CFR part 954 continues to read as follows:

Authority: 42 U.S.C. 3535(d) and 12701-12839.

6. Section 954.4 is amended by revising paragraph (i) to read as follows:

§ 954.4 Other Federal requirements.

* * * * *

(i) Debarment and suspension. As required by 24 CFR part 24, each grantee must require participants in lower tier covered transactions (e.g., sub-contractors) to include a certification that neither it nor its principals are currently debarred, suspended, proposed for debarment, declared ineligible, or voluntarily excluded from participation in the covered transaction, in any proposal submitted in connection with the lower tier covered transactions. A participant may rely on the certification unless it knows the certification is erroneous.

PART 1003—COMMUNITY DEVELOPMENT BLOCK GRANTS FOR INDIAN TRIBES AND ALASKA NATIVE VILLAGES

7. The authority citation for 24 CFR part 1003 continues to read as follows:

Authority: 42 U.S.C. 3535(d) and 5301 et seq.

8. Section 1003.608 is revised to read as follows:

§ 1003.608 Debarment and suspension.

As required by 24 CFR part 24, each grantee must require participants in lower tier covered transactions (e.g., contractors and sub-contractors) to include a certification that neither it nor its principals are currently debarred, suspended, proposed for debarment, declared ineligible, or voluntarily excluded from participation in the covered transaction, in any proposal submitted in connection with the lower tier covered transactions. A participant may rely on the certification, unless it knows the certification is erroneous.

Dated: March 22, 2002.
Aaron Santa Anna,
Assistant General Counsel for Regulations.

[FR Doc. 02-7544 Filed 3-28-02; 8:45 am]

BILLING CODE 4210-32-P